DEPARTMENT OF ENERGY

Federal Energy Regulatory Commission

[Docket No. RP01-298-000]

Williams Gas Pipelines Central, Inc.; Notice of Proposed Changes in FERC Gas Tariff

April 3, 2001.

Take notice that on March 29, 2001, Williams Gas Pipelines Central, Inc. (Williams) tendered for filing as part of its FERC Gas Tariff, Original Volume No. 1, the following tariff sheets to become effective May 1, 2001:

First Revised Sheet No. 281

First Revised Sheet No. 405

First Revised Sheet No. 406

First Revised Sheet No. 413

First Revised Sheet No. 414

First Revised Sheet No. 421

First Revised Sheet No. 422

First Revised Sheet No. 428

First Revised Sheet No. 429

First Revised Sheet No. 480

First Revised Sheet No. 481

First Revised Sheet No. 482

First Revised Sheet No. 483

Williams states that the purpose of this filing is to allow Williams to contract for minimum delivery pressure obligations with customers where mutually agreeable on a non-discriminatory basis. The filing proposes revised tariff sheets to incorporate an agreed upon pressure commitment, if any, into the service agreements for Williams' TSS, STS, SFT and FTS services, as well as a change to Section 20 of Williams' General Terms and Conditions to allow for the exception of mutually agreed pressure commitments in transport agreements.

Williams states that copies of the revised tariff sheets are being mailed to Williams' jurisdictional customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8591 Filed 4-6-01; 8:45 am]

BILLING CODE 6717-01-M